DEPARTMENT OF TRANSPORTATION

National Highway Traffic Safety Administration

Petition for Exemption From the Federal Motor Vehicle Theft Prevention Standard; Hyundia-Kia America Technical Center, Inc.

AGENCY: National Highway Traffic Safety Administration (NHTSA), Department of Transportation (DOT).

ACTION: Grant of petition for exemption.

SUMMARY: This document grants in full the Hyundai-Kia Motors Corporation (HATCI) petition for exemption of the Hyundai VI vehicle line in accordance with 49 CFR part 543, Exemption from Vehicle Theft Prevention Standard. This petition is granted because the agency has determined that the antitheft device to be placed on the line as standard equipment is likely to be as effective in reducing and deterring motor vehicle theft as compliance with the parts-marking requirements of 49 CFR part 541, Federal Motor Vehicle Theft Prevention Standard.

DATES: The exemption granted by this notice is effective beginning with the 2011 Model Year (MY).

FOR FURTHER INFORMATION CONTACT: Ms. Carlita Ballard, International Policy, Fuel Economy and Consumer Programs, NHTSA, W43-439, 1200 New Jersey Avenue, SE., Washington, DC 20590. Ms. Ballard's phone number is (202) 366-0846. Her fax number is (202) 493-2990.

SUPPLEMENTARY INFORMATION: In a petition dated September 11, 2009, Hyundai requested an exemption from the parts-marking requirements of the Theft Prevention Standard (49 CFR Part 541) for the Hyundai VI vehicle line, beginning with MY 2011. The petition requested an exemption from parts-marking requirements pursuant to 49 CFR 543, Exemption from Vehicle Theft Prevention Standard, based on the installation of an antitheft device as standard equipment for the entire vehicle line.

Under Section § 543.5(a), a manufacturer may petition NHTSA to grant exemptions for one of its vehicle lines per model year. Hyundai petitioned the agency to grant an exemption for its VI vehicle line beginning with MY 2011. In its petition, Hyundai provided a detailed description and diagram of the identity, design, and location of the components of the antitheft device for the new vehicle line. Hyundai will install its passive Smart-key Immobilizer device and alarm system (audible and visual) on the VI vehicle line as standard equipment. According to Hyundai, the Smart-key immobilizer device allows the driver/operator to access and operate the vehicle by using a valid FOB key and that no other actions by mechanical key or a remote control unit are necessary. Hyundai further states that the immobilizer is automatically activated when the electronic key code of the FOB key is removed from the smart-key immobilizer control unit. The audible and visual alarm system is automatically activated when the electronic key code of the FOB key is removed from the smart-key immobilizer control unit, all vehicle doors and the hood are closed, and all the doors are locked. If the device is armed and unauthorized entry is attempted, the vehicle's horn will sound and the hazard lamps will flash.

Hyundai stated that its Smart-key immobilizer device also features passive vehicle access, trunk access and door locking. Specifically, Hyundai stated that if a valid FOB key is in the range defined by this device, the device will automatically detect and authenticate the FOB via wireless communication between the FOB key and the Smart-key immobilizer unit. If communication is authenticated, the device will allow passive accessibility to the doors and/or trunk, and/or passive locking of all the doors.

In addressing the specific content requirements of 543.6, Hyundai provided information on the reliability and durability of the device. Hyundai conducted component tests and on-vehicle tests for the Smart-key immobilizer system and the alarm system in accordance with the EEC, UNECE, Korea standard and Hyundai in-house standard. Specifically, Hyundai provided approval numbers for all tests performed

In support of its belief that its antitheft device will be as effective as compliance with the parts marking requirements in reducing and deterring vehicle theft, Hyundai referenced and provided an April 2006 report by JP Research, Inc., which concluded that antitheft devices were consistently much more effective in reducing thefts when compared to parts marking. The JP Research report showed that of the 24 vehicle lines studied, those with antitheft devices installed were 70% more effective than parts marking in deterring theft. Hyundai also provided theft data on other manufacturer's vehicle lines (Lincoln Town Car, Chrysler Town and Country, Mazda MX-5 Miata and Mazda 3) that have been exempted from the theft prevention standard. Hyundai stated that it believes that this data supports the conclusion of the JP Research report that the installation of antitheft devices is at least as effective as complying with the parts marking requirements in reducing and deterring theft. Theft rates for the Lincoln Town Car, Chrysler Town and Country, Mazda MX-5 Miata and Mazda 3 all are below the median theft rate of 3.5826. Hyundai also compared the theft rates for its Azera model which has been installed with an antitheft device as standard equipment since (MY 2006) and was granted an exemption from the theft prevention standard in MY 2008 to the overall theft rate reported by NHTSA for model years (MYs') 2006 and 2007. The theft rate for the MY 2006 Hyundai Azera was 0.7758 which was comparatively lower than the overall theft rate of 2.08 for MY 2006. The theft rate for the MY 2007 Azera was 1.8003, also comparatively lower than the overall theft rate of 1.86 for MY 2007. Conclusively, Hyundai stated that it believes the data indicate that installation of antitheft devices are effective in reducing thefts.

Based on the supporting evidence submitted by Hyundai on the device, the agency believes that the antitheft device for the VI vehicle line is likely to be as effective in reducing and deterring motor vehicle theft as compliance with the parts-marking requirements of the Theft Prevention Standard (49 CFR part 541). The agency concludes that the device will provide the five types of performance listed in § 543.6(a)(3): Promoting activation; attracting attention to the efforts of unauthorized persons to enter or operate a vehicle by means other than a key; preventing defeat or circumvention of the device by unauthorized persons; preventing operation of the vehicle by unauthorized entrants; and ensuring the reliability and durability of the device.

Pursuant to 49 U.S.C. 33106 and 49 CFR 543.7(b), the agency grants a petition for exemption from the parts-marking requirements of part 541, either in whole or in part, if it determines that, based upon supporting evidence, the standard equipment antitheft device is likely to be as effective in reducing and deterring motor vehicle theft as compliance with the parts-marking requirements of part 541. The agency finds that Hyundai has provided adequate reasons for its belief that the antitheft device for the Hyundai VI vehicle line is likely to be as effective in reducing and deterring motor vehicle theft as compliance with the parts-marking requirements of the Theft Prevention Standard (49 CFR part 541). This conclusion is based on the information Hyundai provided about its device.

For the foregoing reasons, the agency hereby grants in full Hyundai's petition for an exemption for the MY 2011 VI vehicle line from the parts-marking requirements of 49 CFR part 541. The agency notes that 49 CFR Part 541, Appendix A-1, identifies those lines that are exempted from the Theft Prevention Standard for a given model year. 49 CFR 543.7(f) contains publication requirements with respect to the disposition of all part 543 petitions. Advanced listing, including the release of future product nameplates, the beginning model year for which the petition is granted and a general description of the antitheft device is necessary in order to notify law enforcement agencies of new vehicle lines exempted from the parts-marking requirements of the Theft Prevention Standard.

If Hyundai decides not to use the exemption for this vehicle line, it must formally notify the agency. If such a decision is made, the vehicle line must be fully marked as required by 49 CFR 541.5 and 541.6 (marking of major component parts and replacement parts).

NHTSA notes that if Hyundai wishes in the future to modify the device on which this exemption is based, the company may have to submit a petition to modify the exemption. Part 543.7(d) states that a part 543 exemption applies only to vehicles that belong to a line exempted under this part and equipped with the anti-theft device on which the line's exemption is based. Further, § 543.9(c)(2) provides for the submission of petitions to modify an exemption to permit the use of an antitheft device similar to but differing from the one specified in that exemption.

The agency wishes to minimize the administrative burden that part 543.9(c)(2) could place on exempted vehicle manufacturers and itself. The agency did not intend part 543 to require the submission of a modification petition for every change to the components or design of an antitheft device. The significance of many such changes could be de minimis. Therefore, NHTSA suggests that if the manufacturer contemplates making any changes the effects of which might be characterized as de minimis, it should consult the agency before preparing and submitting a petition to modify.

Authority: 49 U.S.C. 33106; delegation of authority at 49 CFR 1.50.

Issued on: February 2, 2010.
Stephen R. Kratzke,
Associate Administrator for Rulemaking.

[FR Doc. 2010-2595 Filed 2-5-10; 8:45 am]

BILLING CODE 4910-59-P